DEPARTMENT OF TRANSPORTATION

Federal Aviation Administration

14 CFR Part 73

[Airspace Docket No. 00-ACE-23]

Amendment of Time of Use for Restricted Areas R-4501A, B, C, D, and E, Fort Leonard Wood; MO

AGENCY: Federal Aviation Administration (FAA), DOT.

ACTION: Notice of proposed rulemaking (NPRM).

SUMMARY: This action proposes to amend the times of use for Restricted Areas R-4501A, B, C, D, and E, Fort Leonard Wood, MO. Specifically, this action proposes to reduce and/or increase the published times and/or days the restricted areas are in use. The FAA is proposing this action in response to the United States Army's (USA) increased training requirements.

DATES: Comments must be received on or before October 16, 2000.

ADDRESSES: Send comments on this proposal in triplicate to: Manager, Air Traffic Division, ACE-500, Docket No. 00-ACE-23, Federal Aviation Administration, 601 East 12th Street, Federal Building, Kansas City, MO 64106. The official docket may be examined in the Rules Docket, Office of the Chief Counsel, Room 916, 800 Independence Avenue, SW., Washington DC, weekdays, except Federal holidays, between 8:30 a.m. and 5:00 p.m.

An informal docket may also be examined during normal business hours at the office of the Regional Air Traffic Division.

FOR FURTHER INFORMATION CONTACT: William C. Nelson, Airspace and Rules Division, ATA-400, Office of Air Traffic Airspace Management, Federal Aviation Administration, 800 Independence Avenue, SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal. Communications should identify the airspace docket number and be submitted in triplicate to the address listed above. Commenters wishing the FAA to acknowledge receipt of their comments on this action must submit with those comments a self-addressed, stamped postcard on which the following statement is made: “Comments to Airspace Docket No. 00-ACE-23.” The postcard will be date/time stamped and returned to the commenter. All communications received on or before the specified closing date for comments will be considered before taking action on the proposed rule. The proposal contained in this action may be changed in light of comments received. All comments submitted will be available for examination in the Rules Docket both before and after the closing date for comments. A report summarizing each substantive public contact with FAA personnel concerned with this rulemaking will be filed in the docket.

Availability of NPRM's

An electronic copy of this document may be downloaded from the FAA regulations section of the Fedworld electronic bulletin board service (telephone: 703-321-3339) or the Federal Register's electronic bulletin board service (telephone: 202-512-1661) using a modem and suitable communications software.

Internet users may reach the FAA's web page at http://www.faa.gov or the Federal Register's web page at http://www.access.gpo.gov/nara for access to recently published rulemaking documents.

Any person may also obtain a copy of this NPRM by submitting a request to the FAA, Office of Air Traffic Airspace Management, ATA-400, 800 Independence Avenue, SW., Washington, DC 20591, or by calling (202) 267-8783. Communications must identify the docket number of this NPRM. Persons interested in being placed on a mailing list for future NPRM's should call the FAA, Office of Rulemaking, (202) 267-9677, to request a copy of Advisory Circular No. 11-2A, which describes the application procedure.

Background

The Department of Defense in a continuing need to meet its added national defense responsibilities has increased its training requirements of the USA Reserve and National Guard resources in many areas of the United States. One of the locations where this training has been increased is at Fort Leonard Wood, MO. This increase in training requires modification of the times of use for R-4501 and its subdivisions. Therefore, the USA has requested that the FAA amend the times and days of use for R-4501A, B, C, D, and E.

The Proposal

The FAA is proposing an amendment to 14 CFR part 73 to modify the times of use of R-4501 and its subdivisions over Fort Leonard Wood, MO. Specifically, the FAA proposes to activate R-4501A thirty minutes earlier and deactivate it three hours later. Additionally, R-4501B would be activated on the same schedule but deactivated four hours later. The day schedule (Monday-Saturday) would remain unchanged.

Also, the FAA proposes to activate R-4501C and D two hours later Monday-Friday and deactivate it three hours later than the current designation on Monday and two hours earlier Tuesday-Friday. Saturday would no longer be designated as an active day unless done so by NOTAM 24 hours in advance. In addition, the FAA proposes to activate R-4501E on the same schedule as R-4501C and D. The FAA is proposing this action at the request of the USA to meet the increasing training efforts of the USA at Fort Leonard Wood, MO, and to better depict more realistic operational times of use of the restricted areas.

List of Subjects in 14 CFR Part 73

Airspace, Navigation (air).

The Proposed Amendment

In consideration of the foregoing, the Federal Aviation Administration proposes to amend 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

2. § 73.45 is amended as follows:

* * * * *

R-4501A Fort Leonard Wood West, MO [Amended]

By removing the words “Time of Designation. 0700-1800 Monday-Saturday; other times by NOTAM issued at least 24 hours in advance.” and inserting the words “Time of Designation. 0630-2100 Monday-Saturday; other times by NOTAM issued at least 24 hours in advance.”

R-4501B Fort Leonard Wood East, MO [Amended]

By removing the words “Time of Designation. 0700-1800 Monday-Saturday; other times by NOTAM issued at least 24 hours in advance.” and inserting the words “Time of Designation. 0630-2200 Monday-Saturday; other times by NOTAM issued at least 24 hours in advance.”

R-4501C Fort Leonard Wood, MO [Amended]

By removing the words “Time of Designation. 0700-1800 Monday-Saturday; other times by NOTAM issued at least 24 hours in advance.” and inserting the words “Time of Designation. 0900-2100 Monday; 0900-1600 Tuesday-Friday; other times by NOTAM issued at least 24 hours in advance.”

R-4501D Fort Leonard Wood, MO [Amended]

By removing the words “Time of Designation. 0700-1800 Monday-Saturday; other times by NOTAM issued at least 24 hours in advance.” and inserting the words “Time of Designation. 0900-2100 Monday; 0900-1600 Tuesday-Friday; other times by NOTAM issued at least 24 hours in advance.”

R-4501E Fort Leonard Wood, MO [Amended]

By removing the words “Time of Designation. As specified by NOTAM at least 24 hours in advance.” and inserting the words “Time of Designation. 0900-2100 Monday; 0900-1600 Tuesday-Friday; other times by NOTAM issued at least 24 hours in advance.”

* * * * *

Issued in Washington, DC, on August 24, 2000.
Reginald C. Matthews,
Manager, Airspace and Rules Division.

[FR Doc. 00-22358 Filed 8-30-00; 8:45 am]

BILLING CODE 4910-13-P